FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

African Mediterranean Lines Inc. (NVO), Amci Bldg. Jezine Street, Saida, Lebannon, Officers: Ahmad K. Osman, Vice President/Assistant General Manager (Qualifying Individual), Hussein M. Bassal, Assistant General Manager, Application Type: New NVO License.

Bahaghari Holdings, Inc. dba Bahaghari Holdings, Inc., dba Bahaghari Express Cargo dba DL Lawin Cargo (NVO), 761 Highland Place, San Dimas, CA 91773, Officer: Leandro R. Dinglasan, President/CFO/Secretary, Application Type: New NVO License.

CTC Logistics (L.A.) Inc. (NVO), 5250 W. Century Blvd., Suite 660, Los Angeles, CA 90045, Officers: Ann L. Shang, CFO (Qualifying Individual), Yon L. Li, President, Application Type: QI Change.

Diversities International Corporation (NVO & OFF), 6022 Melrose Avenue, San Angelo, TX 76901, Officers: Nguyet Nguyen, President/Secretary (Qualifying Individual), Sean Lee, Vice President/Treasurer, Application Type: New NVO & OFF License.

DS International Corporation (NVO), 315 Harbor Way, South San Francisco, CA 94080, Officer: Charlie Shi, President/Secretary/Treasurer (Qualifying Individual), Application Type: New NVO License.

Falcon Shipping, Inc. (NVO & OFF), 4458 NW. 74th Avenue, Miami, FL 33166, Officer: Abdiel Falcon, President/Secretary (Qualifying Individual), Application Type: New NVO & OFF License.

Ground Cargo Transportation, Inc. (NVO & OFF), 9900 West Sample Road, #208, Coral Springs, FL 33065, Officer: Marcelo A. Leston,President/Secretary/Treasurer (Qualifying Individual), Application Type: Add NVO Service.

Jetstream Freight Forwarding, Inc. (OFF), 21024 24th Avenue South, #114, Sea-Tac, WA 98198, Officers: AiChu Sun-Franck, Sec./Dir. Of Ocean Export Operations (Qualifying Individual), Bryan D. Jennings, President, Application Type: QI Change.

“K” Line Logistics (U.S.A.) Inc. (OFF), 145 Hook Creek Blvd., Bldg. C5B, Valley Stream, NY 11581, Officers: Donald Whang, Vice President (Corporate Customs Officer) (Qualifying Individual), Mamoru Shozui, President, Application Type: QI Change.

NACA Logistics (USA), Inc. dba Vanguard Logistics Services, dba Vanguard dba Brennan International Transport, dba Brennan dba Conterm Consolidation Services, dba Conterm dba Direct Container Line dba DCL, dba Ocean World Shipping dba OWS dba Ocean Express, dba Oceanexpress (NVO), 857 East 230th Street, Carson, CA 90745, Officers: Michael Sinclair, President (Qualifying Individual), Charles Brennan, Vice President/Director, Application Type: Trade Name Change.

NK America, Inc. (NVO & OFF), 777 S. Kuther Road, Sidney, OH 45365, Officers: Bruce Hetzler, Vice President (Qualifying Individual), Hiroshi Sakairi, President, Application Type: QI Change.

Pactrans Global LLC. (NVO & OFF), 951-961 Thorndale Avenue, Bensenville, IL 60106, Officers: Alexander F. Pon, Managing Member (Qualifying Individual), Kitty Y. Pon, Manager, Application Type: New NVO & OFF License.

PME Logistics, Inc. (NVO), 19401 S. Main Street, Suite 102, Gardena, CA 90248, Officers: Nelson Yang, Secretary/Director (Qualifying Individual), David Y. Seong, President/CEO/Treasurer/CFO, Application Type: New NVO License.

Samskip Icepak Logistics, Inc. (NVO & OFF), 220 N. Centre Street, Suite 2, Merchantville, NJ 08109, Officer: Paul Dean, President (Qualifying Individual), Application Type: Name Change.

Sky 2 C Freight Systems, Inc. (NVO & OFF), 4221 Business Center Drive, Suite 5 & 6, Fremont, CA 94538, Officer: Tarun Tandon, President (Qualifying Individual), Application Type: Add OFF Service.

Worldwide Freight Logistics, Corp. (OFF), 9222 NW. 101 Street, Medley, FL 33178, Officers: Heriberto Sanchez, Secretary/Treasurer (Qualifying Individual), Roxana Sanchez, CEO, Application Type: New OFF License.

Dated: April 22, 2011.
Karen V. Gregory,
Secretary.

[FR Doc. 2011-10160 Filed 4-26-11; 8:45 am]

BILLING CODE 6730-01-P